ENVIRONMENTAL PROTECTION AGENCY

[EPA-HQ-OECA-2014-0097 FRL-9986-26-OEI]

Information Collection Request Submitted to OMB for Review and Approval; Comment Request; NESHAP for Plating and Polishing Area Sources (Renewal)

AGENCY: Environmental Protection Agency (EPA).

ACTION: Notice.

SUMMARY: The Environmental Protection Agency (EPA) has submitted an information collection request (ICR), NESHAP for Plating and Polishing Area Sources (EPA ICR Number 2294.05, OMB Control Number 2060-0623), to the Office of Management and Budget (OMB) for review and approval in accordance with the Paperwork Reduction Act. This is a proposed extension of the ICR, which is currently approved through November 30, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 31, 2018.

ADDRESSES: Submit your comments, referencing Docket ID Number EPA-HQ-OECA-2014-0097 to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Plating and Polishing Area Sources (40 CFR part 63, subpart WWWWWW) apply to both existing and new plating and polishing facilities that are an area source of hazardous air pollutant (HAP) emissions and that use one or more of the following metal HAP: Cadmium, chromium, lead manganese, or nickel (hereafter referred to as the plating and polishing metal HAP). A plating and polishing facility is a plant site that is engaged in any of the following processes: Non-chromium electroplating; electroless or non-electrolytic plating; other non-electrolytic metal coating processes such as chromate conversion coating, nickel acetate sealing, sodium dichromate sealing, and manganese phosphate coating, and thermal spraying; dry mechanical polishing of finished metals and formed products after plating or thermal spraying; electroforming; and electro-polishing. New facilities include those that commenced construction, modification, or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart WWWWWW.

Form Numbers: None.

Respondents/affected entities: Plating and polishing area source facilities.

Respondent's obligation to respond: Mandatory (40 CFR part 63, subpart WWWWWW).

Estimated number of respondents: 2,900 (total).

Frequency of response: Initially and annually.

Total estimated burden: 67,700 hours (per year). Burden is defined at 5 CFR 1320.3(b).

Total estimated cost: $7,410,000 (per year), which includes no annualized capital/startup or operation & maintenance costs.

Changes in the estimates: There is an increase in the total estimated burden and number of responses from the most-recently approved ICR due to several adjustments. First, burden hours were added to allow each facility to refamiliarize themselves with the regulatory requirements each year. Second, the number of sources that complete but do not submit annual compliance certifications was left out of the response count in the previous renewal and this has been corrected.

There is a decrease in the annualized capital or operation & maintenance costs since the previous renewal due to an adjustment. There are no ongoing monitoring requirements in the rule and no new sources are expected to incur capital/startup costs. Therefore, the capital/startup costs were reduced to zero since those costs have already been incurred when the existing sources became subject to the rule.

Courtney Kerwin,
Director, Regulatory Support Division.

[FR Doc. 2018-25771 Filed 11-29-18; 8:45 am]

BILLING CODE 6560-50-P